DEPARTMENT OF TRANSPORTATION

Federal Highway Administration

Buy America Waiver Notification

AGENCY: Federal Highway Administration (FHWA), Department of Transportation (DOT).

ACTION: Notice.

SUMMARY: This notice provides information regarding FHWA's finding that a Buy America waiver is appropriate for the re-use of historical U.S. 40 steel bridge truss members for construction of a bicycle and pedestrian bridge over Little Blue River in the City of Grandview in the State of Missouri.

DATES: The effective date of the waiver is June 16, 2016.

FOR FURTHER INFORMATION CONTACT: For questions about this notice, please contact Mr. Gerald Yakowenko, FHWA Office of Program Administration, 202-366-1562, or via email at gerald.yakowenko@dot.gov. For legal questions, please contact Ms. Jennifer Mayo, FHWA Office of the Chief Counsel, 202-366-1523, or via email at jennifer.mayo@dot.gov. Office hours for the FHWA are from 8:00 a.m. to 4:30 p.m., e.t., Monday through Friday, except Federal holidays.

SUPPLEMENTARY INFORMATION:

Electronic Access

An electronic copy of this document may be downloaded from the Federal Register's home page at http://www.archives.gov and the Government Printing Office's database at http://www.access.gpo.gov/nara.

Background

The FHWA's Buy America policy in 23 CFR 635.410 requires a domestic manufacturing process for any steel or iron products (including protective coatings) that are permanently incorporated in a Federal-aid construction project. The regulation also provides for a waiver of the Buy America requirements when the application would be inconsistent with the public interest or when satisfactory quality domestic steel and iron products are not sufficiently available. This notice provides information regarding FHWA's finding that a Buy America waiver is appropriate for the re-use of historical U.S. 40 steel bridge truss members in construction of bicycle and pedestrian bridge over Little Blue River in Grandview, MO.

In accordance with Division K, section 122 of the Consolidated and Further Continuing Appropriations Act of 2015 (Pub. L. 113-235), FHWA published a notice of intent to issue a waiver on its Web site (http://www.fhwa.dot.gov/construction/contracts/waivers.cfm?id=120) on March 22nd. The FHWA received no comments in response to the publication. The truss members were part of U.S. 40 Historic Bridge (Bridge #J0526) that was dismantled as a part of the I-70 project currently under construction. The steel trusses will be re-used in the construction of a pedestrian bridge over the Little Blue River in Grandview, MO as part of the Longview Lake Trail. Based on all the information available to the Agency, FHWA concludes that it is in the public interest to re-use the historical US 40 steel bridge truss members for construction of a bicycle and pedestrian bridge over Little Blue River in Grandview, MO.

In accordance with the provisions of section 117 of the SAFETEA-LU Technical Corrections Act of 2008 (Pub. L. 110-244), FHWA is providing this notice that a waiver of Buy America requirements is appropriate. The FHWA invites public comment on this finding for an additional 15 days following the effective date of the finding. Comments may be submitted to FHWA's Web site via the link provided to the waiver page noted above.

Authority: 23 U.S.C. 313; Pub. L. 110-161, 23 CFR 635.410.

Issued on: June 1, 2016.
Gregory G. Nadeau,
Administrator, Federal Highway Administration.

[FR Doc. 2016-14142 Filed 6-14-16; 8:45 am]

BILLING CODE 4910-22-P